DEPARTMENT OF ENERGY

Federal Energy Regulatory Commission

[Docket Nos. CP01-94-000 & CP01-96-000]

Nornew Energy Supply, Inc. and Norse Pipeline, L.L.C.; Notice of Applications

March 16, 2001.

Take notice that on March 1, 2001, Nornew Energy Supply, Inc. (Nornew), 19 Ivy Street, Jamestown, New York 14701 and Norse Pipeline, L.L.C. (Norse), 2500 Tanglewilde, Suite 250, Houston, Texas 77063, filed applications pursuant to section 7 of the Natural Gas Act (NGA). In Docket No. CP01-94-0000, Nornew seeks authorization: (1) To acquire from its affiliate, Norse, and to operate approximately 14.67 miles of twelve-inch pipeline and 4.33 miles of eight-inch pipeline; (2) to construct (nunc pro tunc) and operate approximately 7.63 of eight-inch piipeline;¹ and, (3) to construct by rearrangement, and operate certain compression and measurement facilities in Mayville, NY, as well as check valves and regulators devices designed to prevent the flow of gas from Nornew into Norse's gathering facilities located in the Town of Ellery, NY and in Mayville, NY. Also in Docket No. CP01-94-000, Norse seeks authorization: (1) To abandon by sale to Nornew approximately 14.67 miles of twelve-inch pipeline and 4.33 miles of eight-inch pipeline and appurtenant facilities previously used by Norse to provide gathering service; and, (2) to abandon in place a 2000 foot line at the point where the Norse facilities connect to Nornew's 7.63 miles of eight-inch pipeline. In Docket No. CP01-96-000, Nornew requests a blanket certificate pursuant to Subpart F of Part 157 of the Commission's Regulations to perform certain routine activities and operations, all as more fully set forth in the applications which are on file with the Commission and open to public inspection. The filing may be viewed at http://www.ferc.fed.us/online/rims.htm (call 202-208-2222 for assistance).

¹ National Fuel Gas Distribution Corporation, 93 FERC ¶ 61,276 (2000), reh'g denied, 94 FERC ¶ 61,136 (2001). In its orders, the Commission, among other things, ruled that the 7.63 miles of eight-inch pipeline constructed by Nornew to serve the Jamestown Board of Public Utilities (Jamestown BPU) was a jurisdictional facility requiring an NGa section 7(c) certificate.

Norse and Nornew's request for certificates of public convenience and necessity are a result of the Commission's previous orders that ruled that interstate natural gas transportation service to the Jamestown BPU would require such authorization. Further the Commission also required Norse to provide evidence that the primary function of its facilities would be gathering exempt from the Commission's jurisdiction pursuant to section 1(b) of the NGA. In compliance with the Commission's orders, Nornew and Norse are proposing to rearrange their business activities to enable Norse, subject to Commission confirmation, to reamin an exempt gatherer and for Nornew to provide interstate transportation to the Jamestown BPU.

Specifically, Nornew has agreed to acquire from Norse and Norse has agreed to sell to Nornew approximately 19 miles of twelve-inch and eight-inch pipeline and appurtenant facilities previously used by Norse in its gathering operations. The purchase price for the facilities is $1,133,866. Nornew plans to lease two 360 hp compressors currently situated at the Norse compressor site at Mayville, NY. The 19 miles of pipeline will connect two delivery points from Norse's gathering facilities (in Mayville, NY and Ellery, NY) and a future delivery point from Tennessee Gas Pipeline Company (Tennessee) in Mayville, NY to Nornew's 7.63 mile, eight-inch pipeline, which will serve the Jamestown BPU's Samuel A. Carlson Generating Station (Carlson Generating Station) in Jamestown, NY. Additionally, Nornew will construct approximately 300 feet of six-inch pipeline leading from Tennessee's facilities to the two leased 360 hp compressors, as well as constructing approximately 200 feet of six-inch pipeline from the compressors to Nornew's mainline. Norse seeks abandonment authorization to the extent necessary to sell the facilities to Nornew and to abandon certain minor facilities in place. According to Norse the sale of the facilities will create a geographically separate segment of Norse's system from that of Nornew's system. Therefore, Norse believes that its remaining facilities will continue to operate as non-jurisdictional gathering facilities.

Any person desiring to be heard or to make any protest with reference to said application should on or before April 6, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Oivind Risberg, President, Nornew Energy Supply, Inc., 2500 Tanglewilde, Suite 250, Houston, Texas 77063, telephone (713) 975-1900.

Comments, protests, and interventions may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents filed by the applicant and by everyone of the intervenors. An intervenor can file for rehearing of any Commission order and can petition for court review of any such order. However, an intervenor must submit copies of comments or any filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order at a federal court.

The Commission will consider all comments and concerns equally, whether filed by commenters or those requesting intervenor status.

Take further notice that, pursuant to the authority contained in and subject to the jurisdiction conferred upon the Federal Energy Regulatory Commission by sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised, it will be unnecessary for Norse and Nornew to appear or be represented at the hearing.

Linwood A. Watson, Jr.,
Acting Secretary.

[FR Doc. 01-7121 Filed 3-21-01; 8:45 am]

BILLING CODE 6717-01-M